NATIONAL AERONAUTICS AND SPACE ADMINISTRATION

[Notice (12-016)]

NASA Advisory Council; Meeting

AGENCY: National Aeronautics and Space Administration.

ACTION: Notice of meeting.

SUMMARY: In accordance with the Federal Advisory Committee Act, Public Law 92-463, as amended, the National Aeronautics and Space Administration announces a meeting of the NASA Advisory Council (NAC).

DATES: Thursday, March 8, 2012, 8 a.m.-5 p.m., local time and Friday, March 9, 2012, 8 a.m.-12 p.m., local time.

ADDRESSES: NASA Headquarters, 300 E Street SW., Room 9H40, (PRC), Washington, DC 20456.

FOR FURTHER INFORMATION CONTACT: Ms. Marla King, NAC Administrative Officer, National Aeronautics and Space Administration Headquarters, Washington, DC 20546, 202/358-1148.

SUPPLEMENTARY INFORMATION: The agenda for the meeting will include the following:

—NASA FY 2013 Budget Request.

—National Research Council Study on NASA Space Technology Roadmaps.

—Aeronautics Committee Report.

—Audit, Finance and Analysis Committee Report.

—Commercial Space Committee Report.

—Education and Public Outreach Committee Report.

—Human Exploration and Operations Committee Report.

—Information Technology Infrastructure Committee Report.

—Science Committee Report.

—Technology and Innovation Committee Report.

The meeting will be open to the public up to the seating capacity of the room. This meeting is also available telephonically and by WebEx. You must use a touch tone phone to participate in this meeting. Any interested person may dial the toll free access number, 1-866-753-1451 or toll access number 1-203-875-1553 and then the numeric participant passcode: 6957984 followed by the # sign. To join via WebEx, the link is https://nasa.webex.com, meeting number 394 377 706, and password NACMARCH8&9 (Note: Password is case sensitive.).

It is imperative that the meeting be held on this date to accommodate the scheduling priorities of the key participants. Visitors will need to show a valid picture identification such as a driver's license to enter the NASA Headquarters building (West Lobby—Visitor Control Center), and must state that they are attending the NASA Advisory Council meeting in room 9H40 before receiving an access badge. Foreign nationals attending this meeting will be required to provide a copy of their passport, visa, or green card in addition to providing the following information no less than 10 working days prior to the meeting: full name; gender; date/place of birth; citizenship; visa/green card information (number, type, expiration date); passport information (number, country, telephone); employer/affiliation information (name of institution, address, country, telephone); title/position of attendee. To expedite admittance, attendees with U.S. citizenship can provide identifying information three working days in advance by contacting Ms. Marla King, via email at marla.k.king@nasa.gov or by telephone at (202) 358-1148.

Patricia D. Rausch,
Advisory Committee Management Officer, National Aeronautics and Space Administration.

[FR Doc. 2012-3898 Filed 2-17-12; 8:45 am]

BILLING CODE P